DEPARTMENT OF THE INTERIOR

Office of Surface Mining Reclamation and Enforcement

Notice of Proposed Information Collection for 1029-0035

AGENCY: Office of Surface Mining Reclamation and Enforcement.

ACTION: Notice and request for comments.

SUMMARY: In compliance with the Paperwork Reduction Act of 1995, the Office of Surface Mining Reclamation and Enforcement (OSM) is announcing its intention to request approval to continue the collection of information under 30 CFR part 779, Surface Mining Permit Applications—Minimum Requirements for Environmental Resources. This information collection activity was previously approved by the Office of Management and Budget (OMB), and assigned clearance number 1029-0035.

DATES: Comments on the proposed information collection must be received by February 7, 2006, to be assured of consideration.

ADDRESSES: Comments may be mailed to John A. Trelease, Office of Reclamation and Enforcement, 1951 Constitution Ave., NW., Room 202-SIB, Washington, DC 20240. Comments may also be submitted electronically to jtreleas@osmre.gov.

FOR FURTHER INFORMATION CONTACT: To request a copy of the information collection request, including explanatory information and related form, contact John A. Trelease at the address listed in ADDRESSES.

SUPPLEMENTARY INFORMATION: The Office of Management and Budget (OMB) regulations at 5 CFR 1320, which implement provisions of the Paperwork Reduction Act of 1995 (Pub. L. 104-13), require that interested members of the public and affected agencies have an opportunity to comment on information collection and recordkeeping activities (see 5 CFR 1320.8 (d)). This notice identifies an information collection that OSM will be submitting to OMB for extension. This collection is contained in 30 CFR part 779, Surface Mining Permit Applications—Minimum Requirements for Environmental Resources.

OSM has revised burden estimates, where appropriate, to reflect current reporting levels or adjustments based on reestimates of burden and respondents. OSM will request a 3-year term of approval for this information collection activity.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will be included in OSM's submission of the information collection request to OMB.

This notice provides the public with 60 days in which to comment on the following information collection activities:

Title: Surface Mining Permit Applications—Minimum Requirements for Environmental Resources, 30 CFR part 779.

OMB Control Number: 1029-0035.

Summary: Applicants for surface coal mining permits are required to provide adequate descriptions of the environmental resources that may be affected by proposed surface mining activities. The information will be used by the regulatory authority to determine if the applicant can comply with environmental protection performance standards.

Bureau Form Number: None.

Frequency of Collection: Once upon submittal of permit application.

Description of Respondents: 342 Coal mining permit applicants and 24 state regulatory authorities.

Total Annual Responses: 342 applicants and 329 state regulatory authorities.

Total Annual Burden Hours: 54,867 hours.

Dated: December 5, 2005.
John R. Craynon,
Chief, Division of Regulatory Support.

[FR Doc. 05-23835 Filed 12-8-05; 8:45am]

BILLING CODE 4310-05-M